DEPARTMENT OF HEALTH AND HUMAN SERVICES

Announcement of Availability of Funds for One Family Planning General Training and Technical Assistance Project in Public Health Service Region VI

AGENCY: Office of Public Health and Science, Office of Population Affairs.

ACTION: Notice.

Announcement Type: Initial Competitive Grant.

CFDA Number: 93.260.

DATES: To receive consideration, applications must be received by the Office of Public Health and Science (OPHS) Office of Grants Management no later than June 12, 2006. Applications will be considered as meeting the deadline if they are received by the OPHS Office of Grants Management no later than 5 p.m. Eastern time on the application due date. Applications will not be accepted by fax, nor will the submission deadline be extended. The application due date requirement specified in this announcement supercedes the instructions in the OPHS-1. Applications which do not meet the deadline will be returned to the applicant unread. See heading “APPLICATION and SUBMISSION INFORMATION” for additional information. Executive Order 12372 comment due date: The State Single Point of Contact (SPOC) has 60 days from the due date to submit any comments.

Executive Summary: This announcement seeks applications from public and nonprofit private entities to establish and operate one general training and technical assistance project in Public Health Service (PHS) Region VI (Arkansas, Louisiana, Oklahoma, Texas, and New Mexico). The purpose of the family planning general training program is to ensure that all levels of personnel working in Title X family planning service projects have the knowledge, skills, and abilities necessary for the effective delivery of high quality family planning services. General training also includes specialized technical assistance which consists of specific, specialized or highly skilled family planning training that is usually provided to a single organization based on identified need. The successful applicant will be responsible for the development and overall management of the general training program that provides training for Title X service grantee personnel in PHS Region VI.

I. Funding Opportunity Description

The Office of Population Affairs (OPA) announces the availability of approximately $480,000 in Fiscal Year (FY) 2006 funds, inclusive of indirect costs, to support one Family Planning General Training and Technical Assistance project in PHS Region VI, as authorized under section 1003 of the Public Health Service Act. The successful applicant will provide both training and specialized technical assistance to family planning personnel in order to maintain the high level of performance of family planning services projects funded under Title X of the PHS Act.

Applicant organizations must demonstrate significant experience in the design, development, implementation, successful completion, and evaluation of health-related training activities. In addition, the successful applicant must demonstrate skill and experience in providing training to diverse, community-based entities. The successful applicant will provide evidence of familiarity with family planning and related reproductive health issues, including program management principles, information/education/communication concepts, and the ability to translate evidence-based information into training activities.

Awards will be made only to those organizations or agencies which have met all applicable requirements and which demonstrate the capability of providing the proposed services.

Program Statute and Regulations

Title X of the PHS Act, 42 U.S.C. 300 et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” The broad range of services should include abstinence education. Section 1003 of the Act, as amended, authorizes the Secretary of Health and Human Services to award grants to entities to provide the training for personnel to carry out family planning service programs. Section 1008 of the Act, as amended, stipulates that “none of the funds appropriated under this title shall be used in programs where abortion is a method of family planning.”

The regulations set out at 42 CFR part 59, subpart C, govern grants to provide training for family planning service providers. Prospective applicants should refer to the regulations in their entirety. Training provided must be in accordance with the requirements regarding the provision of family planning services under Title X. These requirements can be found in the Title X statute, the implementing regulations which govern project grants for family planning services (42 CFR part 59, subpart A), and the “Program Guidelines for Project Grants for Family Planning Services,” (January 2001) . In addition, any training regarding sterilization of clients as part of the Title X program should be consistent with 42 CFR part 50, subpart B (“Sterilization of Persons in Federally Assisted Family Planning Projects”). Copies of the Title X statute, regulations, and “Program Guidelines” can be obtained by contacting the OPHS Office of Grants Management, or may be downloaded from the Office of Population Affairs (OPA) web site at http://opa.osophs.dhhs.gov. Applicants should use the legislation, regulations, and other information included in this announcement to guide them in developing their applications.

II. Award Information

The Office of Family Planning (OFP)/OPA announces the availability of approximately $480,000 in FY 2006 funds, inclusive of indirect costs, to support one general training grant to assist in the establishment and operation of a regional training center to serve Title X service grantees in PHS Region VI. The grant will be funded in annual increments (budget periods) and may be approved for a project period of up to two years. Funding of the grant will be based on the Regional Health Administrator's (RHA's) assessment of such factors as the training and specialized technical assistance needs within the region; the applicant's experience and proposed work plan; availability and expertise of proposed personnel; and, the anticipated cost of the proposed project.

III. Eligibility Information

1. Eligible Applicants: Any public or nonprofit private entity which has a physical location within one of the States in PHS Region VI (Arkansas, Louisiana, Oklahoma, Texas, and New Mexico) is eligible to apply for a grant under this announcement. Faith-based organizations are eligible to apply for this Title X family planning general training and technical assistance grant.

2. Cost Sharing: A match of non-Federal funds is not required.

IV. Application and Submission Information

1. Address to Request Application Package: Application kits may be requested from, and applications submitted to: OPHS Office of Grants Management, 1101 Wootton Parkway, Suite 550, Rockville, MD 20852; 240-453-8822. Application kits are also available online through the OPHS electronic grants management Web site at https://egrants.osophs.dhhs.gov, or the government-wide grants system, grants.gov at http://www.grants.gov. Application requests may be submitted by FAX at 240-453-8823. Instructions for use of the eGrants system can be found on the OPA Web site at http://opa.osophs.dhhs.gov or requested from the OPHS Office of Grants Management.

2. Content and Form of Application Submission: Applications must be submitted on the Form OPHS-1 and in the manner prescribed in the application kit. The application narrative should be limited to 50 double-spaced pages using an easily readable serif typeface such as Times Roman, Courier, or GC Times, 12 point font. The page limit does not include budget; budget justification; required forms, assurances, and certifications as part of the OPHS-1, “Grant Application”; or appendices. All pages, charts, figures and tables should be numbered. The application narrative should be numbered separately and clearly show the 50 page limit. If the application narrative exceeds 50 pages, only the first 50 pages of the application narrative will be reviewed. Appendices may provide curriculum vitae, organizational structure, examples of organizational capabilities, progress report for a continuing competitive application, or other supplemental information which supports the application. However, appendices are for supportive information only. All information that is critical to the proposed project should be included in the body of the application. Appendices should be clearly labeled.

For all non-governmental applicants, documentation of non-profit status must be submitted as part of the application. Any of the following constitutes acceptable proof of such status:

a. A reference to the Applicant organization's listing the Internal Revenue Service's (IRS) most recent list of tax-exempt organizations described in the IRS code;

b. A copy of a currently valid IRS tax exemption certificate;

c. A statement from a State taxing body, State attorney general, or other appropriate State official certifying that the applicant organization has a non-profit status and that none of the net earnings accrue to any private shareholders or individuals;

d. A certified copy of the organization's certificate of incorporation or similar document that clearly establishes non-profit status; For local, nonprofit affiliates of State or national organizations, a statement signed by the parent organization indicating that the applicant organization is a local nonprofit affiliate must be provided in addition to any one of the above acceptable proof of nonprofit status.

A Dun and Bradstreet Universal Numbering System (DUNS) number is required for all applications for Federal assistance. Organizations should verify that they have a DUNS number or take the steps needed to obtain one. Instructions for obtaining a DUNS number are included in the application package, or may be downloaded from the OPA web site.

Applications must include a one-page abstract of the proposed project. The abstract will be used to provide reviewers with an overview of the application, and will form the basis for the application summary in grants management documents.

Application Content

The applicant should demonstrate knowledge of evidence-based learning theory and adult learning behavior, and the applicability to proposed training activities. The design of all training programs, including all curricula and materials, must be consistent with Title X statute and regulations.

The applicant should demonstrate willingness to work closely with other Title X-funded training projects, including other regional training centers, the male training center, and the national training center(s). In addition, the applicant should demonstrate willingness to work with other Federal, State, and/or local government entities; family planning service providers; other community-based organizations; and other training providers (e.g., Health Resources and Services Administration [HRSA] AIDS Education Training Centers [AETCs]; Centers for Disease Control and Prevention [CDC] Prevention Training Centers [PTCs]; Substance Abuse and Mental Health Service Administration [SAMHSA] Addiction Technology Transfer Centers [ATTCs]; Administration for Children and Families [ACF] Infant Adoption Awareness Training Program [IAATP], etc.) in order to maximize resources and achieve program objectives.

The grantee will be responsible for all costs associated with training program administration and management, as well as any costs directly associated with Title X-sponsored training events (e.g., educational materials, classroom and training sites, etc.). The successful applicant will be expected to participate in at least two national meetings per year at the request of the Office of Family Planning, and should budget accordingly. Applicants should demonstrate flexibility in resource utilization, including training plan design, in order to respond to national training priority topics, new initiatives, and emerging program needs during each year of the project period.

Title X Program Priorities, Legislative Mandates, and Key Issues

The following priorities represent overarching goals for the Title X program. Proposals should be developed considering Title X program priorities, legislative mandates, and key issues as they relate to training needs within Title X service projects. Additionally, specific national training priorities will be identified for each year of the project period.

2006 Program Priorities

1. Assuring ongoing high quality family planning and related preventive health services that will improve the overall health of individuals;

2. Assuring access to a broad range of acceptable and effective family planning methods and related preventive health services that include natural family planning methods, infertility services, and services for adolescents; highly effective contraceptive methods; breast and cervical cancer screening and prevention that corresponds with nationally recognized standards of care; STD and HIV prevention education, counseling, and testing; extramarital abstinence education and counseling; and other preventive health services. The broad range of services does not include abortion as a method of family planning;

3. Encouraging participation of families, parents, and/or other adults acting in the role of parents in the decision of minors to seek family planning services, including activities that promote positive family relationships;

4. Improving the health of individuals and communities by partnering with community-based organizations (CBOs), faith-based organizations (FBOs), and other public health providers that work with vulnerable or at-risk populations;

5. Promoting individual and community health by emphasizing family planning and related preventive health services for hard-to-reach populations, such as uninsured or under-insured individuals, males, persons with limited English proficiency, adolescents, and other vulnerable or at-risk populations.

Legislative Mandates

The following legislative mandates have been part of the Title X appropriations for each of the last several years. In developing a proposal, each applicant should describe how the proposed project will provide training that addresses each of these legislative mandates.

• “None of the funds appropriated in this Act may be made available to any entity under title X of the Public Health Service Act unless the applicant for the award certifies to the Secretary that it encourages family participation in the decision of minors to seek family planning services and that it provides counseling to minors on how to resist attempts to coerce minors into engaging in sexual activities;” and

• “Notwithstanding any other provision of law, no provider of services under title X of the Public Health Service Act shall be exempt from any State law requiring notification or the reporting of child abuse, child molestation, sexual abuse, rape, or incest.”

Other Key Issues

In addition to the Program Priorities and Legislative Mandates, the following Key Issues have implications for Title X services projects and should be acknowledged in the program plan:

1. The increasing cost of providing family planning services;

2. The U.S. Department of Health and Human Service priorities and initiatives, including increasing access to health care; emphasizing preventive health measures, improving health outcomes; improving the quality of health care; and eliminating disparities in health; as well as Healthy People 2010 objectives for Family Planning (Chapter 9); Health Communication (Chapter 11); HIV (Chapter 13), and Sexually Transmitted Diseases (Chapter 25). (http://www.health.gov/healthypeople);

3. Departmental initiatives and legislative mandates, such as the Health Insurance Portability and Accountability Act (HIPAA); Infant Adoption Awareness Training Program (IAATP); providing unmarried adolescents with information, skills and support to encourage sexual abstinence; serving persons with limited English proficiency;

4. Integration of HIV/AIDS services into family planning programs; specifically, HIV/AIDS education, counseling and testing either on-site or by referral should be provided in all Title X family planning services projects. Education regarding the prevention of HIV/AIDS should incorporate the “ABC” message. That is, for adolescents and unmarried individuals, the message should include “A” for abstinence; for married individuals or those in committed relationships, the message is “B” for be faithful; and, for individuals who engage in behavior that puts them at risk for HIV, the message should include “A,” “B,” and “C” for correct and consistent condom use.

5. Utilization of electronic technologies, such as electronic grants management systems;

6. Data collection and reporting which is responsive to the current OMB-approved Family Planning Annual Report (FPAR) and other information needs for monitoring and improving family planning services;

7. Service delivery improvement through utilization of research outcomes focusing on family planning and related population issues; and

8. Utilizing practice guidelines and recommendations developed by recognized professional organizations and Federal agencies in the provision of evidence-based Title X clinical services.

National Training Priorities for 2006

Each year the OFP/OPA establishes national training priorities based on nationally identified training needs. The OFP/OPA will provide the successful applicant with guidance for addressing the 2006 training priorities at the time of grant award. A portion of the total grant award will be earmarked for addressing 2006 training priorities, and a final budget will be negotiated between the successful applicant and the OFP Regional Project Officer. The plan for addressing the training priorities must have approval of the OFP Project Officer and the OFP/OPA prior to implementation.

Knowledge, Skills, and Abilities

Applicants should demonstrate a broad range of expertise and skill in providing training programs, managing training resources, and working with consultants and service providers. Applicants should demonstrate the capacity to utilize electronic technologies and evidence-based training delivery techniques. Applicants should include evidence of the ability to provide training that prepares family planning project personnel to increase effectiveness in working with persons of diverse backgrounds, as well as with persons of differing educational and physical abilities.

The proposal should demonstrate the applicants's expertise and ability to develop, implement, and evaluate training in the areas of information, education and communication; program management; and clinical service delivery. The training proposal should reflect an understanding of the training needs relevant to the various levels of Title X personnel, both clinical and non-clinical. Applicants should indicate the ability to provide continuing education credits as appropriate (e.g., continuing education credit for nurses, health educators, social workers, etc.). Within each of the areas mentioned above, at a minimum, the grantee will be expected to provide training for Title X personnel that includes the following topics:

Information, Education and Communication

• Increasing effectiveness in working with hard-to-reach and diverse populations, including racial, ethnic, cultural, and linguistic minorities, to reduce health disparities;

• Use of electronic technologies in program activities and management;

• Incorporation and/or use of various media modalities to assist in achieving program goals and objectives.

Program Management

• Improving the management skills of family planning grantee staff;

• Increasing the ability of family planning grantee staff to assess, plan, design, and utilize management information systems;

• Designing, implementing, and utilizing data reports in project operations;

• Utilizing financial systems to monitor, track, record, and control Title X and other financial resources according to Federal grants requirements;

• Incorporating current information related to privacy and transmission of client information into grantee operations [e.g., compliance with the Health Insurance Portability and Accountability Act (HIPAA), as applicable];

• Improving program efficiency and enhancing cost savings and recovery mechanisms; and

• Collecting and reporting all data elements required for the Family Planning Annual Report (FPAR).

Clinical Activities

• Improving the performance of clinic staff (clinical and non-clinical providers) involved in health care delivery through continuing education and quality assurance activities;

• Educational clinical activities addressing intimate partner violence;

• Clinical topics including current acceptable and effective contraceptive methods and other issues and technologies which affect family planning service delivery and which are consistent with evidence-based, nationally recognized standards of care;

• Title X Program requirements and legislative mandates, including training on involving parents in the decision of minors to seek family planning services; counseling minors on resisting attempts to coerce them into engaging in sexual activity; and compliance with state laws regarding reporting or notification of child abuse, child molestation, sexual abuse, rape, or incest;

• Provision of abstinence education;

• Integrating HIV prevention activities into Title X services;

• Incorporating the “ABC” approach to HIV prevention counseling; and

• Best practices for providing non-directive counseling, as described in the Title X family planning services projects regulations at 42 CFR 59.5(a)(5).

Specialized Technical Assistance

In addition to providing general training on the issues mentioned above, successful applicants must also demonstrate the capacity to develop and implement a system for providing technical assistance to Title X service providers in PHS Region VI. Technical assistance consists of specific, specialized or highly skilled family planning training that is usually provided to a single organization based on an identified need. The objective of this assistance is to provide projects with the technical resources needed to address Title X priorities and key issues impacting family planning, and/or to better manage the project.

A portion of the total grant award will be earmarked for technical assistance, and a final budget will be negotiated between the successful applicant and the OFP Regional Project Officer.

All technical assistance provided with grant funds must have prior approval of the OFP Project Officer.

Evaluation

The applicant is responsible for developing and implementing an evaluation plan which assesses the overall training program, as well as each training event and technical assistance provided. The plan should include evaluation of the content of training events, delivery mechanisms utilized, accessability for Title X providers, and how well the offerings met the needs of the trainee and sponsoring agency. Evaluation of technical assistance should include an assessment of whether the expertise of the selected consultant matched the technical assistance needed, as well as whether the assistance resulted in the improved knowledge, skills, and/or abilities required.

3. Submission Dates and Times

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic grant application submissions must be submitted no later than 5 p.m. Eastern Time on the deadline date specified in the DATES section of the announcement using one of the electronic submission mechanisms specified below. All required hardcopy original signatures and mail-in items must be received by the OPHS Office of Grants Management no later than 5 p.m. eastern time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Web site Portal must contain all completed online forms required by the application kit, the Program Narrative, Budget Narrative and any appendices or exhibits. All required mail-in items must be received by the due date requirements specified above. Mail-In items may only include publications, resumes, or organizational documentation.

Upon completion of a successful electronic application submission via the Grants.gov Web site Portal, the applicant will be provided with a confirmation page from Grants.gov indicating the date and time (eastern time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Website Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the OPHS eGrants System

The OPHS electronic grants management system, eGrants, provides for applications to be submitted electronically. Information about this system is available on the OPHS eGrants website, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

The address to submit hard-copy applications is OPHS Office of Grants Management, 1101 Wootton Parkway, Suite 550, Rockville, MD 20852, 240-453-8822. Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. eastern time on the deadline date specified in the DATES section of the announcement. The application deadline date requirement specified in this announcement supersedes the instructions in the OPHS-1. Applications that do not meet the deadline will be returned to the applicant unread.

4. Intergovernmental Review

Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. This information can also be found on the Office of Management and Budget Web site, www.whitehouse.gov/omb/grants/spoc. For those states not represented on the listing, further inquiries should be made by the applicant regarding the submission to the relevant SPOC. The SPOC should forward any comments to the OPHS Office of Grants Management, 1101 Wootton Parkway, Suite 550, Rockville, Maryland 20852. The SPOC has 60 days from the due date as listed in the DATES section of this announcement to submit any comments. For further information, contact the OPHS Office of Grants Management at 240-453-8822.

5. Funding Restrictions

The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

Indirect costs are limited to eight percent (8%) of modified total direct costs as a flat amount for reimbursement under training grants (Grants Policy Directive Part 3.01: Post-Award-Indirect cost and other Cost Policies, HHS transmittal 98.01).

6. Other Submission Requirements

None.

V. Application Review Information

1. Criteria

1. The degree to which the project plan adequately provides for the requirements set forth in the Title X regulations at 42 CFR § 59.205 (20 points total for this section);

2. The extent to which the training program promises to fulfill the family planning service delivery needs of the area to be served, which may include among other things:

(i) Development of a capability within family planning service projects to provide pre- and in-service training to their own staffs;

(ii) Improvement of the family planning service delivery skills of family planning and health services personnel;

(iii) Improvement in the utilization and career development of paraprofessional and paramedical manpower in family planning services;

(iv) Expansion of family planning services, particularly in rural areas, through new or improved approaches to program planning and deployment of resources; (20 points total for this section)

3. The administrative and management capability and competence of the applicant (20 points);

4. The extent to which the proposed training and technical assistance program will increase the delivery of services to people, particularly low-income groups, with a high percentage of unmet need for family planning services (15 points);

5. The competence of the project staff in relation to the services to the services to be provided (15 points); and

6. The capacity of the applicant to make rapid and effective use of the grant assistance, including evidence of flexibility in the utilization of resources and training plan design (10 points).

2. Review and Selection Process

Each eligible application will be reviewed by a panel of independent reviewers and will be evaluated based on the criteria listed above. In addition to the independent review panel, there will be staff reviews of each application for programmatic and grants management compliance.

Final award decisions will be made collaboratively by the Regional Health Administrator (RHA) for PHS Region VI. In making grant award decisions, one grant will be awarded which best promotes the purposes of sections 1001 (family planning services) and 1003 (family planning training) of the Public Health Service Act, within the limits of funds available for such projects. The decision will take into account the reasonableness of the estimated cost considering the available funding, and the benefits expected.

VI. Award Administration Information

1. Award Notices

The OPA does not release information about individual applications during the review process. When final funding decisions have been made, each applicant will be notified by letter of the outcome. The official document notifying an applicant that a project application has been approved for funding is the Notice of Grant Award (NGA), signed by the Director of the OPHS Office of Grants Management. This document specifies to the grantee the amount of money awarded, the purposes of the grant, the length of the project period, terms and conditions of the grant award, and the amount of funding, if any, to be contributed by the grantee to project costs. In addition, the NGA identifies the Grants Specialist and the OFP Project Officer assigned to the grant.

This grant will be awarded for a project period of up to two years. The grant will be funded in annual increments (budget periods). Funding for all approved budget periods beyond the first year of the grant is contingent upon satisfactory progress of the project, efficient and effective use of grant funds, and the continued availability of funds.

2. Administrative and National Policy Requirements

In accepting this award, the grantee stipulates that the award and any activities thereunder are subject to all provisions of 45 CFR parts 74 and 92, currently in effect or implemented during the period of the grant.

The successful applicant will be responsible for the overall management of activities within the scope of the approved project plan, and will be required to work closely with the OFP Project Officer in PHS Region VI. The Project Officer will review and approve the regional training plan, technical assistance requests, and plans for the use of regional resources as part of this grant. In addition, both the OFP/OPA Central Office and the Regional Office will review and approve training plans related to the identified annual national training priorities.

The OPHS requires all grant recipients to provide a smoke-free workplace and to promote the non-use of all tobacco products. This is consistent with the OPHS mission to protect and advance the physical and mental health of the American people.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

Federal grant support must be acknowledged in any publication developed or training provided using Title X funds. All publications developed or purchased with Title X funds must be consistent with the requirements of the program. The grantee will be expected to make available, at cost, all materials developed with Title X funds as requested by other Title X projects.

3. Reporting

Each year of the project period, the grantee is required to submit a non-competing application which includes an annual progress report, project work plan, budget, and budget justification for the upcoming year. The progress report must contain, at a minimum, a report on the evaluation of the training program as a whole, as well as the following data related to training activities supported with grant funds:

For “on-site” training events: (a) Title of training event; (b) location; (c) topic(s) covered; (d) presenter(s) (as applicable); (e) number of participants; (f) agencies sponsoring participants; and (g) evaluation summary; (h) credit hours or CEUs available.

For “distance learning” training events: (a) Title of training; (b) number/location (downlink sites, web hits, media copies, etc., as appropriate); (c) topic(s) covered; (d) presenters; (e) agencies participating; (g) evaluation summary; (h) credit hours or CEUs available. In addition, grantees must maintain and submit a log of all technical assistance provided which includes, at a minimum: (a) grantee/delegate agency requiring technical assistance; (b) topic/content; (c) number of days of technical assistance required; (d) consultant(s) hired to provide technical assistance; and (e) outcome of technical assistance provided.

Grantees are required to submit an annual Financial Status Report within 90 days after the end of each budget period. Grantees who receive $500,000 or more of Federal funds must undergo an independent audit in accordance with OMB Circular A-133.

VII. Agency Contacts

Administrative and Budgetary Requirements

For information related to administrative and budgetary requirements, contact Karen Campbell in the OPHS Office of Grants Management, 1101 Wootton Parkway, Suite 550, Rockville, MD 20852; by phone at 240-453-8822, or by email at kcampbell@osophs.dhhs.gov.

Program Requirements

For information related to family planning program requirements, contact the Regional Program Consultant for Family Planning in PHS Region VI (Arkansas, Louisiana, New Mexico, Oklahoma, Texas)—Evelyn Glass, by phone at 214-767-3088, or by email at eglass@osophs.dhhs.gov.

VIII. Other Information

There will be an opportunity for a technical assistance conference call to be held within one month after publication of this Notice in the Federal Register. For more information regarding this opportunity, including date, registration information, and how to join the call, please consult the OPA Web site at http://opa.osophs.dhhs.gov.

Dated: March 29, 2006.
Alma L. Golden,
Deputy Assistant Secretary for Population Affairs.

[FR Doc. E6-5262 Filed 4-10-06; 8:45 am]

BILLING CODE 4150-34-P